DEPARTMENT OF HOMELAND SECURITY

Federal Emergency Management Agency

[Docket ID FEMA-2014-0002]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of July 16, 2014 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and ninety (90) days have elapsed since that publication. The Deputy Associate Adminstrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

I. Non-Watershed Based Studies

Community | Community map repository address
Crawford County, Indiana, and Incorporated Areas
Docket No.: FEMA-B-1304
Town of Alton | Alton Town Hall, 100 East High Street, Leavenworth, IN 47137.
Town of English | Town Hall, 204 North Main Street, English, IN 47118.
Town of Leavenworth | Town Hall, 636 West Plaza Drive, Leavenworth, IN 47137.
Town of Marengo | Town Hall, 117 East Water Street, Marengo, IN 47140.
Town of Milltown | Town Hall, 215 West Main Street, Milltown, IN 47145.
Unincorporated Areas of Crawford County | Crawford County Judicial Complex, 715 Judicial Plaza Drive, English, IN 47118.
Cloud County, Kansas, and Incorporated Areas
Docket No.: FEMA-B-1321
City of Clyde | City Hall, 412 Washington Street, Clyde, KS 66938.
City of Concordia | City Hall, 701 Washington Street, Concordia, KS 66901.
City of Glasco | City Hall, 206 East Main Street, Glasco, KS 67445.
City of Jamestown | City Hall, 300 Walnut Street, Jamestown, KS 66948.
City of Miltonvale | City Hall, 107 Starr Avenue, Miltonvale, KS 67466.
Unincorporated Areas of Cloud County | Cloud County Courthouse, 811 Washington Street, Concordia, KS 66901.
Barnstable County, Massachusetts (All Jurisdictions)
Docket No.: FEMA-B-1326
Town of Barnstable | Barnstable Town Hall, 367 Main Street, Hyannis, MA 02601.
Town of Bourne | Bourne Town Hall, 24 Perry Avenue, Buzzards Bay, MA 02532.
Town of Brewster | Town Office, 2198 Main Street, Brewster, MA 02631.
Town of Chatham | Town Hall, 549 Main Street, Chatham, MA 02633.
Town of Dennis | Dennis Town Hall, Conservation Department, 485 Main Street, South Dennis, MA 02660.
Town of Eastham | Town Hall, 2500 State Highway, Eastham, MA 02642.
Town of Falmouth | Town Hall, 59 Town Hall Square, Falmouth, MA 02540.
Town of Harwich | Town Hall, 732 Main Street, Harwich, MA 02645.
Town of Mashpee | Town Hall, 16 Great Neck Road North, Mashpee, MA 02649.
Town of Orleans | Town Hall, 19 School Road, Orleans, MA 02653.
Town of Provincetown | Town Hall, 260 Commercial Street, Provincetown, MA 02657.
Town of Sandwich | Town Hall, 130 Main Street, Sandwich, MA 02563.
Town of Truro | Town Hall, 24 Town Hall Road, Truro, MA 02666.
Town of Wellfleet | Town Hall, 300 Main Street, Wellfleet, MA 02667.
Town of Yarmouth | Yarmouth Town Hall, 1146 Route 28, South Yarmouth, MA 02664.
Bristol County, Massachusetts (All Jurisdictions)
Docket No.: FEMA-B-1296
City of Fall River | City Hall, One Government Center, Fall River, MA 02722.
Town of Berkley | Town Hall, One North Main Street, Berkley, MA 02779.
Town of Dighton | Town Hall, 979 Somerset Avenue, Dighton, MA 02715.
Town of Freetown | Freetown Town Hall, 3 North Main Street, Asonet, MA 02702.
Town of Rehoboth | Town Hall, 148 Peck Street, Rehoboth, MA 02769.
Town of Seekonk | Town Hall, 100 Peck Street, Seekonk, MA 02771.
Town of Somerset | Town Office Building, 140 Wood Street, Room 23, Somerset, MA 02726.
Town of Swansea | Town Hall, 81 Main Street, Swansea, MA 02777.
Bristol County, Massachusetts (All Jurisdictions)
Docket No.: FEMA-B-1333
City of New Bedford | City Hall, 133 William Street, New Bedford, MA 02740.
Town of Acushnet | Town Hall, 122 Main Street, Acushnet, MA 02743.
Town of Fairhaven | Town Hall, 40 Center Street, Fairhaven, MA 02719.
Essex County, Massachusetts (All Jurisdictions)
Docket No.: FEMA-B-1334
City of Beverly | City Hall, 191 Cabot Street, Beverly, MA 01915.
City of Gloucester | City Hall, 9 Dale Avenue, Gloucester, MA 01930.
City of Lynn | City Hall, 3 City Hall Square, Lynn, MA 01901.
City of Newburyport | City Hall, 60 Pleasant Street, Newburyport, MA 01950.
City of Salem | City Hall, 93 Washington Street, Salem, MA 01970.
Town of Essex | Town Hall, 30 Martin Street—2nd Floor, Essex, MA 01929.
Town of Ipswich | Town Hall, 25 Green Street, Ipswich, MA 01938.
Town of Manchester-by-the-Sea | Town Hall, 10 Central Street, Manchester-by-the-Sea, MA 01944.
Town of Marblehead | Town Hall, 188 Washington Street, Marblehead, MA 01945.
Town of Nahant | Town Hall, 334 Nahant Road, Nahant, MA 01908.
Town of Newbury | Town Hall, 25 High Road, Newbury, MA 01951.
Town of Rockport | Town Hall, 34 Broadway, Rockport, MA 01966.
Town of Rowley | Town Hall, 139 Main Street, Rowley, MA 01969.
Town of Saugus | Town Hall, 298 Central Street, Saugus, MA 01906.
Town of Swampscott | Town Hall, 22 Monument Avenue, Swampscott, MA 01907.
Mason County, Michigan (All Jurisdictions)
Docket No.: FEMA-B-1312
Charter Township of Pere Marquette | Pere Marquette Charter Township Hall, 1699 South Pere Marquette Highway, Ludington, MI 49431.
City of Ludington | City Hall, 400 South Harrison Street, Ludington, MI 49431.
Township of Amber | Amber Township Hall, 171 South Amber Road, Scottville, MI 49454.
Township of Branch | Branch Township Hall, 6688 East First Street, Walhalla, MI 49458.
Township of Custer | Township Hall, 2549 East U.S. Highway 10, Custer, MI 49405.
Township of Eden | Eden Township Hall, 3369 East Hawley Road, Custer, MI 49405.
Township of Grant | Grant Township Hall, 843 West Hoague Road, Manistee, MI 49660.
Township of Hamlin | Hamlin Township Hall, 3775 North Jebavy Drive, Ludington, MI 49431.
Township of Logan | Logan Township Hall, 3975 Tyndall Road, Branch, MI 49402.
Township of Riverton | Riverton Township Hall, 2122 West Hawley Road, Scottville, MI 49454.
Township of Summit | Summit Township Hall, 4879 West Deren Road, Ludington, MI 49431.
Northampton County, Pennsylvania (All Jurisdictions)
Docket No.: FEMA-B-1256
Borough of Bangor | Borough Hall, 197 Pennsylvania Avenue, Bangor, PA 18013.
Borough of Bath | Borough Hall, 214 East Main Street, Bath, PA 18014.
Borough of Chapman | Chapman Borough Secretary's Office, 1400 Main Street, Bath, PA 18014.
Borough of East Bangor | Borough Hall, 45 South High Street, East Bangor, PA 18013.
Borough of Freemansburg | Borough Hall, 600 Monroe Street, Freemansburg, PA 18017.
Borough of Glendon | Borough Hall, 24 Franklin Street, Glendon, PA 18042.
Borough of Hellertown | Borough Municipal Building, 685 Main Street, Hellertown, PA 18055.
Borough of Nazareth | Borough Engineer's Office, Keller Consulting Engineers, Inc., 49 East Center Street, Nazareth, PA 18064.
Borough of North Catasauqua | Borough Hall, 1066 4th Street, North Catasauqua, PA 18032.
Borough of Northampton | Borough Municipal Office, 1401 Laubach Avenue, Northampton, PA 18067.
Borough of Pen Argyl | Borough Office, 11-13 North Robinson Avenue, Pen Argyl, PA 18072.
Borough of Portland | Borough Building, 1 Division Street, Portland, PA 18351.
Borough of Roseto | Borough Office, 164 Garibaldi Avenue, Roseto, PA 18013.
Borough of Stockertown | Borough Hall, 209 Main Street, Stockertown, PA 18083.
Borough of Tatamy | Borough Municipal Building, 423 Broad Street, Tatamy, PA 18085.
Borough of Walnutport | Borough Offices, 417 Lincoln Avenue, Walnutport, PA 18088.
Borough of West Easton | Borough Hall, 237 7th Street, West Easton, PA 18042.
Borough of Wilson | Wilson Borough Hall, 2040 Hay Terrace, Easton, PA 18042.
Borough of Wind Gap | Borough Offices, 29 Mechanic Street, Wind Gap, PA 18091.
City of Bethlehem | City Hall, Planning Office, 10 East Church Street, Bethlehem, PA 18018.
City of Easton | Public Services and Engineering Department, 1 South 3rd Street, Easton, PA 18042.
Township of Allen | Allen Township Hall, 4714 Indian Trail Road, Northampton, PA 18067.
Township of Bethlehem | Municipal Building, 4225 Easton Avenue, Bethlehem, PA 18020.
Township of Bushkill | Bushkill Township Hall, 1114 Bushkill Center Road, Nazareth, PA 18064.
Township of East Allen | East Allen Township Offices, 5344 Nor-Bath Boulevard, Northampton, PA 18067.
Township of Forks | Forks Township Hall, 1606 Sullivan Trail, Easton, PA 18040.
Township of Hanover | Hanover Township Engineering Office, 252 Broadhead Road, Suite 100, Bethlehem, PA 18017.
Township of Lehigh | Lehigh Township Municipal Building, 1069 Municipal Road, Walnutport, PA 18088.
Township of Lower Mount Bethel | Lower Mount Bethel Township Hall, 6984 South Delaware Drive, Martins Creek, PA 18063.
Township of Lower Nazareth | Lower Nazareth Township Zoning Administrator's Office, 306 Butztown Road, Bethlehem, PA 18020.
Township of Lower Saucon | Lower Saucon Township Hall, 3700 Old Philadelphia Pike, Bethlehem, PA 18015.
Township of Moore | Moore Township Municipal Building, 2491 Community Drive, Bath, PA 18014.
Township of Palmer | Township Municipal Building, 3 Weller Place, Palmer, PA 18043.
Township of Plainfield | Plainfield Township Hall, 6292 Sullivan Trail, Nazareth, PA 18064.
Township of Upper Mount Bethel | Upper Mount Bethel Township Municipal Building, 387 Ye Olde Highway, Mount Bethel, PA 18343.
Township of Upper Nazareth | Upper Nazareth Township Municipal Building, 100 Newport Avenue, Nazareth, PA 18064.
Township of Washington | Washington Township Hall, 1021 Washington Boulevard, Bangor, PA 18013.
Township of Williams | Williams Township Municipal Building, 655 Cider Press Road, Easton, PA 18042

II. Watershed-Based Studies

Community | Community map repository address
Concord River Watershed
Worcester County, Massachusetts (All Jurisdictions)
Docket No.: FEMA-B-1303
Town of Berlin | Municipal Building, 23 Linden Street, Berlin, MA 01503.
Town of Bolton | Town Hall, 663 Main Street, Bolton, MA 01740.
Town of Boylston | Town Hall, 221 Main Street, Boylston, MA 01505.
Town of Clinton | Town Hall, 242 Church Street, Clinton, MA 01510.
Town of Harvard | Town Hall, 13 Ayer Road, Harvard, MA 01451.
Town of Northborough | Town Offices, 63 Main Street, Northborough, MA 01532.
Town of Shrewsbury | Town Hall, 100 Maple Avenue, Shrewsbury, MA 01545.
Town of Southborough | Town House, 17 Common Street, Southborough, MA 01772.
Town of Westborough | Town Hall, 34 West Main Street, Westborough, MA 01581

(Catalog of Federal Domestic Assistance No. 97.022, “Flood Insurance.”)

Dated: April 22, 2014.
Roy E. Wright,
Deputy Associate Administrator for Mitigation, Department of Homeland Security, Federal Emergency Management Agency.

[FR Doc. 2014-11143 Filed 5-14-14; 8:45 am]

BILLING CODE 9110-12-P